DEPARTMENT OF COMMERCE

Office of the Secretary

[Docket No. 020502107-2107-01]

Privacy Act of 1974; System of Records

AGENCY: Department of Commerce.

ACTION: Notice.

SUMMARY: This notice announces the Department's proposal for a new system of records.

The system is entitled “Commerce/Census-9, Longitudinal Employer-Household Dynamics System.” The Census Bureau will use these data to undertake studies intended to improve the quality of its core demographic and economic censuses and surveys and conduct policy-relevant research. By using administrative record data from other agencies, the Census Bureau will be able to improve the quality and usefulness of its data, while reducing costs and respondent burden. This notice is submitted in accordance with the requirements of the Privacy Act, Title 5, United States Code (U.S.C.), Section 552a, and Office of Management and Budget (OMB) Circular A-130, Appendix I, “Federal Agency Responsibilities for Maintaining Records About Individuals.” We invite public comment on the system announced in this publication.

DATES: Effective Date: The system will become effective without further notice on June 10, 2002, unless the Census Bureau receives comments that require a contrary determination.

Comment Date: To be considered, written comments must be submitted on or before June 10, 2002.

ADDRESSES: Please address comments to: Gerald W. Gates, Privacy Act Officer, Policy Office, Room 2430 FB 3, U.S. Census Bureau, Washington, DC 20233-3700. Comments received will be available for public inspection at this same address from 8:30 a.m. to 4:00 p.m., Monday through Friday.

FOR FURTHER INFORMATION CONTACT: Eloise Parker, Administrative Records Coordinator, Policy Office, Room 2430 FB 3, U.S. Census Bureau, Washington, DC 20233-3700; telephone: (301) 457-2520.

SUPPLEMENTARY INFORMATION: This notice is to announce the establishment of the Longitudinal Employer-Household Dynamics System and to request public comment. As required by 5 U.S.C. 552a(o) of the Privacy Act, the Commerce Department submitted reports on this new system to both Houses of Congress on May 10, 2002. The establishment of this system of records will be effective June 10, 2002, unless Commerce receives comments that would result in a contrary determination.

The purpose of the Longitudinal Employer-Household Dynamics System of records is to enable the Census Bureau to undertake studies intended to improve the quality of its core demographic and economic censuses and surveys and conduct policy-relevant research. By using administrative record data from other agencies, the Census Bureau will be able to improve the quality and usefulness of its data, while reducing costs and respondent burden.

This system will contain personally identifiable information from administrative record systems from two national-level files: Social Security's Numident and Master Earnings Files; and one state-level program: Unemployment Insurance Contribution and Employment Reporting System. Information from these administrative record systems will be combined with selected Census Bureau demographic and economic census and survey data, with the combined data used for census and survey planning and evaluation, and policy-relevant research. All personal identifiers from these files will be removed and replaced with Census Bureau-generated unique identifiers and maintained within a secured, restricted environment, with access limited to a select number of persons sworn to uphold the confidentiality of Census Bureau data. No public disclosure of these data will be made. All authorized uses of the data will be for statistical purposes only. An in-house Administrative Records Project Review Board will oversee all such Census Bureau uses of these data to ensure that they are used only for authorized purposes.

COMMERCE/CENSUS-9

System Name:

Longitudinal Employer-Household Dynamics System, COMMERCE/CENSUS—9.

System Location:

Bowie Computer Center, U.S. Census Bureau, 17101 Melford Boulevard, Bowie, MD 20715.

Categories of Individuals Covered by the System:

The population of the United States. In order to approximate coverage of the entire U.S. population, the Census Bureau will combine administrative record files from the Internal Revenue Service, the Social Security Administration, selected Census Bureau economic and demographic censuses and surveys, and comparable data from selected state agencies.

Categories of Records in the System:

Personal identifiers—e.g., name and social security number (this information will be replaced by Census Bureau-generated unique identifiers, which will be provided on statistical data files); Demographic information—e.g., gender, race, ethnicity, education, marital status, tribal affiliation, veterans status; Geographic information—e.g., address; Economic information—e.g., income, job information, total assets; and Processing information—e.g., processing codes and quality indicators.

Authorities for Maintenance of the System:

Title 13, U.S.C.

Purpose(s):

The purpose of the Longitudinal Employer-Household Dynamics System of records is to enable the Census Bureau to undertake studies intended to improve the quality of its core demographic and economic censuses and surveys and conduct policy-relevant research. By using administrative record data from other agencies, the Census Bureau will be able to improve the quality and usefulness of its data, while reducing costs and respondent burden.

Routine Uses of Records Maintained in the System, Including Categories of Users and the Purposes of Such Uses:

These data will be used by the Census Bureau to evaluate and enhance selected survey data and to produce new data products and conduct analyses of the social and economic characteristics of the population. The administrative record files will be used both alone and in conjunction with Census Bureau census or survey data for these purposes. The data will not be used to identify specific individuals, but will be used to produce statistical extracts with information from one or more of the source files. These records are being maintained and used by the Census Bureau solely for statistical purposes and are confidential under Title 13, U.S.C., Section 9. Only persons sworn to uphold the confidentiality of Census Bureau information and who have a need to know will have access to the data. Publications will not contain data that could identify any individual or establishment. No determinations affecting individual respondents will be made as a result of this routine use.

Policies and Practices for Storing, Retrieving, Accessing, Retaining, and Disposing of Records in the System:

Storage:

Records will be stored in a secure computerized system and on magnetic tape; output data will be either electronic or paper copy. All identifiable data will be maintained in a secure environment, and access to identifiable information will be restricted to only a small number of persons sworn to uphold the confidentiality of Census Bureau data that have a need to know.

Retrievability:

Records are maintained within a secure, restricted access environment and can be retrieved by unique serial identification numbers internal to the Census Bureau by only a limited number of persons sworn to uphold the confidentiality of Census Bureau data and who have a need to know. It should be noted that the purpose of these identifiers is not to facilitate retrieval of information concerning specific individuals, but only to develop matched data sets for subsequent statistical extracts.

Safeguards:

Only a limited number of persons sworn to uphold the confidentiality of Census Bureau data and who have a need to access these data will have access to them in identifiable form in order to construct the linked data sets and produce statistical extracts. The data will not be used to identify specific individuals, but will be used to create extracts containing information from one or more of the source files. Extract files will be released only to designated persons sworn to uphold the confidentiality of Census Bureau data and who have a need to know. The microdata will not be made publicly available. Any publications resulting from these data will be cleared for release under the direction of the Census Bureau's Disclosure Review Board, which will confirm that the data do not directly or indirectly disclose information that would identify any individual or establishment. All persons sworn to uphold the confidentiality of Census Bureau data are subject to the restrictions, penalties, and prohibitions of Title 13, U.S.C., Sections 9 and 214; the PrivacyAct of 1974 (5 U.S.C. 552a(b)(4)); Title 18, U.S.C., Section 1905; Title 26, U.S.C., Section 7213; and Title 42, U.S.C., Section 1306. When confidentiality or penalty provisions differ, the most stringent provisions apply to protect the data. Persons sworn to uphold the confidentiality of Census Bureau data are regularly advised of the regulations issued pursuant to Title 13, U.S.C., and other relevant statutes governing confidentiality of the data. The restricted access environment has been established to limit the number of persons having direct access to identifiable microdata from this system. While all persons with access to this system are sworn to uphold the confidentiality of Census Bureau data, this restricted access environment further protects the confidentiality of the data and prevents unauthorized use of or access to it. These safeguards provide a level and scope of security that is not less than the level and scope of security established by the Office of Management and Budget in OMB Circular No. A-130, Appendix III, Security of Federal Automated Information Systems. Furthermore, the use of unsecured telecommunications to transmit individually identifiable or deducible information derived from the administrative record files is prohibited.

Retention and Disposal:

Retention and disposal practices are in accordance with the General Records Schedule and Census Bureau records control schedules that are approved by the National Archives and Records Administration. Each of the agreements between the Census Bureau and the administrative record source agencies contain specific language pertaining to retention and disposal. Retention is not to exceed 10 years, unless, by agreement with the source agency, it is determined that a longer period is necessary for statistical purposes. At the end of the retention period or upon demand, all original files, extracts, and paper copies from each agency will be returned to the source agency or destroyed as stated in the respective interagency agreement.

System Manager(s) and Address:

Associate Director for Demographic Programs, U.S. Census Bureau, FOB 3, Washington, DC 20233.

Custodian:

Director, Longitudinal Employer-Household Dynamics Program, Demographic Surveys Division, Demographic Programs Directorate, U.S. Census Bureau, FOB 3, Washington, DC 20233.

Record Source Categories:

Selected state and federal administrative record systems and Census Bureau censuses and surveys.

Exemptions Claimed for this System:

Pursuant to Title 5, U.S.C., Section 552a(k)(4), this system of records is exempted from the notification, access, and contest requirements of the agency procedures (under Title 5, U.S.C., Section 552a(c)(3), (d), (e)(1), (e)(4)(G), (H), and (I), and (f)). This exemption is applicable, as the data are maintained by the Census Bureau solely as statistical records, as required under Title 13, U.S.C., and are not used in whole or in part in making any determination about an identifiable individual or establishment. This exemption is made in accordance with agency rules published in the rules section of the Federal Register.

Dated: May 7, 2002.
Brenda S. Dolan,
Department of Commerce, Freedom of Information/Privacy Act Officer.

[FR Doc. 02-11774 Filed 5-9-02; 8:45 am]

BILLING CODE 3510-07-P